DEPARTMENT OF ENERGY

Federal Energy Regulatory Commission

Combined Notice of Filings

Take notice that the Commission has received the following Natural Gas Pipeline Rate and Refund Report filings:

Filings Instituting Proceedings

Docket Numbers: RP14-276-000.

Applicants: Equitrans, L.P.

Description: Non-conforming & Negotiated Rate Service Agreements—PNG & EGC to be effective 12/31/9998.

Filed Date: 12/12/13.

Accession Number: 20131212-5060.

Comments Due: 5 p.m. ET 12/24/13.

Docket Numbers: RP14-276-000.

Applicants: Equitrans, L.P.

Description: Withdrawal Non-conforming & Negotiated Rate Service Agreements—PNG & EGC to be effective N/A.

Filed Date: 12/12/13.

Accession Number: 20131212-5077.

Comments Due: 5 p.m. ET 12/24/13.

Docket Numbers: RP14-277-000.

Applicants: Wyoming Interstate Company, L.L.C.

Description: Park and Loan Service Filing to be effective 1/11/2014.

Filed Date: 12/12/13.

Accession Number: 20131212-5082.

Comments Due: 5 p.m. ET 12/24/13.

Docket Numbers: RP14-278-000.

Applicants: Alliance Pipeline L.P.

Description: Hess Tioga to Hess Trading Corp to be effective 1/1/2014.

Filed Date: 12/13/13.

Accession Number: 20131213-5088.

Comments Due: 5 p.m. ET 12/26/13.

Docket Numbers: RP14-279-000.

Applicants: Equitrans, L.P.

Description: Non-conforming and Negotiated Rate Transportation & Storage Agreements to be effective 12/31/9998.

Filed Date: 12/13/13.

Accession Number: 20131213-5101.

Comments Due: 5 p.m. ET 12/26/13.

Docket Numbers: RP14-280-000.

Applicants: Iroquois Gas Transmission System, L.P.

Description: 12/13/13 Negotiated Rates—JP Morgan Ventures Energy Corp (HUB) 6025-89 to be effective 12/12/2013.

Filed Date: 12/13/13.

Accession Number: 20131213-5175.

Comments Due: 5 p.m. ET 12/26/13.

Docket Numbers: RP14-281-000.

Applicants: Iroquois Gas Transmission System, L.P.

Description: 12/13/13 Negotiated Rates—Sequent Energy Management (HUB) 3075-89 to be effective 12/12/2013.

Filed Date: 12/13/13.

Accession Number: 20131213-5194.

Comments Due: 5 p.m. ET 12/26/13.

Docket Numbers: RP14-282-000.

Applicants: Iroquois Gas Transmission System, L.P.

Description: 12/13/13 Negotiated Rates—Tenaska Gas Storage, LLC (HUB) 1175-89 to be effective 12/12/2013.

Filed Date: 12/13/13.

Accession Number: 20131213-5198.

Comments Due: 5 p.m. ET 12/26/13.

Docket Numbers: RP14-283-000.

Applicants: Northern Border Pipeline Company.

Description: Neg Rate—Dakota Gasification Company to be effective 1/1/2014.

Filed Date: 12/16/13.

Accession Number: 20131216-5043.

Comments Due: 5 p.m. ET 12/30/13.

Docket Numbers: RP14-284-000.

Applicants: Gulf South Pipeline Company, LP.

Description: Cap Rel Neg Rate Agmt (Encana 37663 to BP 41624) to be effective 1/1/2014.

Filed Date: 12/16/13.

Accession Number: 20131216-5053.

Comments Due: 5 p.m. ET 12/30/13.

Docket Numbers: RP14-286-000.

Applicants: Young Gas Storage Company, Ltd.

Description: ATC Rate Adjustment—2013 to be effective 12/1/2013.

Filed Date: 12/16/13.

Accession Number: 20131216-5128.

Comments Due: 5 p.m. ET 12/30/13.

Docket Numbers: RP14-287-000.

Applicants: Columbia Gas Transmission, LLC.

Description: OTRA Extension to be effective 4/1/2014.

Filed Date: 12/16/13.

Accession Number: 20131216-5146.

Comments Due: 5 p.m. ET 12/30/13.

Docket Numbers: RP14-288-000.

Applicants: ANR Pipeline Company.

Description: Update Part 1 to be effective 12/2/2013.

Filed Date: 12/16/13.

Accession Number: 20131216-5162.

Comments Due: 5 p.m. ET 12/30/13.

Docket Numbers: RP14-289-000.

Applicants: Colorado Interstate Gas Company, L.L.C.

Description: ATC Rate Adjustment—2013 to be effective 12/1/2013.

Filed Date: 12/16/13.

Accession Number: 20131216-5177.

Comments Due: 5 p.m. ET 12/30/13.

Docket Numbers: RP14-290-000.

Applicants: Iroquois Gas Transmission System, L.P.

Description: 12/16/13 Negotiated Rates—JP Morgan Ventures (RTS) 6025-26 to be effective 12/15/2013.

Filed Date: 12/16/13.

Accession Number: 20131216-5278.

Comments Due: 5 p.m. ET 12/30/13.

Docket Numbers: RP14-291-000.

Applicants: Iroquois Gas Transmission System, L.P.

Description: 12/16/13 Negotiated Rates—Trafigura AG (HUB) 7445-89 to be effective 12/13/2013

Filed Date: 12/16/13.

Accession Number: 20131216-5279.

Comments Due: 5 p.m. ET 12/30/13.

Docket Numbers: RP14-292-000.

Applicants: Iroquois Gas Transmission System, L.P.

Description: 12/16/13 Negotiated Rates—JP Morgan Ventures Energy Corp (HUB) 6025-89 to be effective 12/14/2013.

Filed Date: 12/16/13.

Accession Number: 20131216-5280.

Comments Due: 5 p.m. ET 12/30/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-1322-001.

Applicants: Kinetica Energy Express, LLC.

Description: Kinetica Energy Express LLC—Grand Isle—Compliance Filing RP13-1322 to be effective 12/13/2013.

Filed Date: 12/13/13.

Accession Number: 20131213-5212.

Comments Due: 5 p.m. ET 12/26/13.

Docket Numbers: RP14-228-001.

Applicants: Elba Express Company, L.L.C.

Description: Clean-Up Amendment Filing to be effective 1/1/2014.

Filed Date: 12/13/13.

Accession Number: 20131213-5102.

Comments Due: 5 p.m. ET 12/26/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 17, 2013.
Nathaniel J. Davis, Sr.,
Deputy Secretary.

[FR Doc. 2013-30476 Filed 12-20-13; 8:45 am]

BILLING CODE 6717-01-P